DEPARTMENT OF ENERGY

Federal Energy Regulatory Commission

[Docket No. RP02-356-000]

Canyon Creek Compression Company; Notice of Technical Conference

August 14, 2002.

In the Commission's order issued on June 27, 2002,¹ the Commission directed that a technical conference be held to address issues raised by the filing.

¹ Canyon Creek Compression Company, 99 FERC ¶ 61,351 (2002).

Take notice that a telephone conference will be held on Tuesday, September 10, 2002, at 10 a.m.

Parties will be sent instruction on how to join the telephone conference.

Linwood A. Watson, Jr.,
Deputy Secretary.

[FR Doc. 02-21156 Filed 8-19-02; 8:45 am]

BILLING CODE 6717-01-P